DEPARTMENT OF THE INTERIOR

Bureau of Land Management

[COC-3292]

Public Land Order No. 7538; Transfer of Jurisdiction to the Department of Agriculture, Forest Service; Colorado

AGENCY: Bureau of Land Management, Interior.

ACTION: Public Land Order.

SUMMARY: This order transfers administrative jurisdiction of 837.12 acres of lands within the boundary of the San Isabel National Forest to the Department of Agriculture, Forest Service for management as National Forest System lands.

EFFECTIVE DATE: September 12, 2002.

FOR FURTHER INFORMATION CONTACT: Doris E. Chelius, BLM Colorado State Office, 2850 Youngfield Street, Lakewood, Colorado 80215-7076, 303-239-3706.

Order

By virtue of the authority vested in the Secretary of the Interior by Section 204 of the Federal Land and Policy Management Act of 1976, 43 U.S.C 1714 (1994) it is ordered as follows:

Subject to valid existing rights, the administrative jurisdiction of the following described lands, which are within the boundary of the San Isabel National Forest, are hereby transferred to the Department of Agriculture, Forest Service to be managed as National Forest System lands:

New Mexico Principal Meridian

T. 50 N., R. 6 E.,

Sec. 16, lot 12.

T. 5l N., R. 8 E.,

Sec. 36, NE¼.

T. 50 N., R. 9 E.,

Sec. 36.

The areas described aggregate 837.12 acres in Chaffee and Gunnison Counties.

Dated: August 28, 2002.
Rebecca W. Watson,
Assistant Secretary—Land and Minerals Management.

[FR Doc. 02-23191 Filed 9-11-02; 8:45 am]

BILLING CODE 3410-11-P